JUDICIAL CONFERENCE OF THE UNITED STATES

Hearing of the Judicial Conference Advisory Committee on Rules of Evidence

AGENCY: Judicial Conference of the United States. Advisory Committee on Rules of Evidence.

ACTION: Notice of cancellation of open hearing.

SUMMARY: The public hearing on proposed amendments to the Federal Rules of Evidence, scheduled for January 23, 2002, in Washington, DC, has been canceled. [Original notice of hearing appeared in the Federal Register of August 29, 2001.]

FOR FURTHER INFORMATION CONTACT: John K. Rabiej, Chief, Rules Committee Support Office, Administrative Office of the United States Courts, Washington, DC 20544, telephone (202) 502-1820.

Dated: January 3, 2002.
John K. Rabiej,
Chief, Rules Committee Support Office.

[FR Doc. 02-478 Filed 1-8-02; 8:45 am]

BILLING CODE 2210-55-M